DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Now Is the Time (NITT)—Minority Fellowship Program (MFP) Evaluation—New

SAMHSA is conducting a national evaluation of the Now is the Time (NITT) initiative, which includes separate programs—the Minority Fellowship Program-Youth (MFP-Y), the Minority Fellowship Program-Addiction Counselors (MFP-AC), Project AWARE (Advancing Wellness and Resilience in Education)-State Educational Agency, and Healthy Transitions. These programs are united by their focus on capacity building, system change, and workforce development.

The NITT-MFP (Youth and Addiction Counselors) programs, which are the focus of this data collection, represent a response to the fourth component of President Obama's NITT Initiative: increasing access to mental health/behavioral health services. The purpose of the NITT-MFP programs is to improve behavioral health care outcomes for underserved racially and ethnically diverse populations by increasing the number of culturally competent master's level behavioral health professionals and addiction counselors serving children, adolescents, and populations in transition to adulthood (ages 16-25) in an effort to increase access to, and quality of, behavioral health care for these age groups. The NITT-MFP—Youth program funded five grantees to each support up to 48 master's level fellows per year committed to addressing the behavioral health needs of at risk children, adolescents, and transition-age youth (ages 16-25). The NITT-MFP—Addiction Counselors program funded two grantees to each support up to 30 master's level fellows per year in their final year of addiction counseling university programs, with a focus on providing culturally sensitive addiction counseling to underserved youth in the 16-25 age group.

The NITT-MFP evaluation is designed to assess the level of success of the grantees in meeting the programs' goals and identify the factors that contribute to differences among grantees in levels of success. The evaluation includes both process and outcome evaluation components and will be supported by the data collection efforts described below. The information to be collected is necessary to (a) assess the effectiveness of the grantees' program recruitment strategies, (b) describe the services that the programs offer, and (c) assess whether NITT-MFP is meeting its goal of increasing the skilled workforce by increasing the number of behavioral health providers and addiction counselors providing services to underserved children, adolescents, and transition-age youth, particularly among racially/ethnically diverse populations.

About 4 to 5 months after completion of their fellowship, a subset of fellow alumni will be asked to participate in the NITT-MFP Fellow Interview. These telephone interviews will collect detailed qualitative information on fellows' experiences that are not possible to collect in a survey. The interview is timed to collect fellows' impressions of their fellowship experiences before too much time has passed, as well as their initial labor market outcomes. The information collected will be used to assess the NITT-MFP program factors associated with employment and other post-fellowship outcomes. The interviewees will be asked to describe (1) their program, how they learned about it, and what led them to apply; (2) the effects of the program on their interest in working with at risk children, adolescents, and transition age youth from racially and ethnically diverse backgrounds (and for MFP-AC fellows, in the area of addiction counseling); (3) whether the program improved their understanding of and ability to provide culturally competent services; (4) whether they completed their fellowship and the effects of the stipend on their education and career; (5) their current employment setting, and, if in behavior health services, the characteristics of their client population; (6) the role that their fellowship played in their job interests and job search; and (7) their satisfaction with the fellowship program and assessment of its impact on their career and professional activities. A maximum of 66 fellow alumni are expected to complete the NITT-MFP Fellow Interview per year; respondents will complete the telephone interview one time.

Annualized Burden Hours
Instrument | Number of respondents | Responses per respondent | Total number of responses | Hours per response | Total burden hours
NITT-MFP Fellow Interview | 66 | 1 | 66 | 1 | 66

Send comments to Summer King, SAMHSA Reports Clearance Officer, Room 2-1057, One Choke Cherry Road, Rockville, MD 20857 OR email her a copy at summer.king@samhsa.hhs.gov. Written comments should be received by February 26, 2016.

Summer King,
Statistician.

[FR Doc. 2015-32559 Filed 12-24-15; 8:45 am]

BILLING CODE 4162-20-P